DEPARTMENT OF ENERGY

10 CFR Part 431

[Docket No. EERE-2010-BT-STD-0027]

RIN 1904-AC28

Energy Efficiency Program for Certain Commercial and Industrial Equipment: Public Meeting and Availability of the Framework Document for Commercial and Industrial Electric Motors

AGENCY: Office of Energy Efficiency and Renewable Energy, Department of Energy.

ACTION: Notice of public meeting and availability of the framework document.

SUMMARY: The U.S. Department of Energy (DOE) is initiating the rulemaking to amend the energy conservation standards for certain commercial and industrial electric motors under section 342(b) of the Energy Policy and Conservation Act (EPCA). DOE will hold an informal public meeting to discuss and receive comments on its planned analytical approach and the issues it will address during this rulemaking. DOE welcomes written comments from the public on any subject within the scope of this rulemaking. To inform interested parties and to facilitate this process, DOE has prepared a framework document that details the analytical approach that DOE will use and identifies several issues on which DOE is particularly interested in receiving comment. A copy of the framework document is available at: http://www1.eere.energy.gov/buildings/appliance_standards/commercial/electric_motors.html. For information on obtaining a copy of the framework document, see the supplementary information section.

DATES: DOE will hold a public meeting on Monday, October 18th, 2010, from 9 a.m. to 4 p.m. in Washington, DC. DOE must receive requests to speak at the public meeting before 4 p.m., Monday, October 4th, 2010. DOE must receive a signed original and an electronic copy of the statement to be given at the public meeting before 4 p.m., Monday, October 11th, 2010. DOE will accept written comments, data, and information regarding the framework document before and after the public meeting, but no later than October 28, 2010.

ADDRESSES: The public meeting will be held at the U.S. Department of Energy, Forrestal Building, Room 8E089, 1000 Independence Avenue, SW., Washington, DC 20585-0121. Please note that foreign nationals planning to participate in the public meeting are subject to advance security screening procedures. If a foreign national wishes to participate in the public meeting, please inform DOE as soon as possible by contacting Ms. Brenda Edwards at (202) 586-2945 so that the necessary procedures can be completed. Additionally, DOE plans to conduct the public meeting via webinar. The registration information and participant instructions will be available on the product Web page.

Interested parties may submit comments, identified by docket number EERE-2010-BT-STD-0027 and/or Regulation Identifier Number (RIN) 1904-AC28, by any of the following methods:

• Federal eRulemaking Portal: http://www.regulations.gov. Follow the instructions for submitting comments.

• E-mail: ElecMotors-2010-STD-0027@ee.doe.gov. Include docket number EERE-2010-BT-STD-0027 and/or RIN 1904-AC28 in the subject line of the message.

• Mail: Ms. Brenda Edwards, U.S. Department of Energy, Building Technologies Program, Mailstop EE-2J, Framework Document for Electric Motors, Docket No. EERE-2010-BT-STD-0027 and/or RIN 1904-AC28, 1000 Independence Avenue, SW., Washington, DC 20585-0121. Please submit one signed paper original. Due to the potential delays in DOE's receipt and processing of mail sent through the U.S. Postal Service, DOE encourages respondents to submit comments electronically to ensure timely receipt.

• Hand Delivery/Courier: Ms. Brenda Edwards, U.S. Department of Energy, Building Technologies Program, Suite 600, 950 L'Enfant Plaza, SW., Washington, DC 20024. Please submit one signed paper original.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. James Raba, U.S. Department of Energy, Office of Energy Efficiency and Renewable Energy, Building Technologies Program, EE-2J, 1000 Independence Avenue, SW., Washington, DC 20585-0121, (202) 586-8654, e-mail: Jim.Raba@ee.doe.gov.

Ms. Ami Grace-Tardy, U.S. Department of Energy, Office of General Counsel, GC-71, 1000 Independence Avenue, SW., Washington, DC 20585-0121, (202) 586-5709, e-mail: Ami.Grace-Tardy@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121, (202) 586-2945, e-mail: Brenda.Edwards@ee.doe.gov.

SUPPLEMENTARY INFORMATION: Part A of the Energy Policy and Conservation Act of (EPCA) established the “Energy Conservation Program for Consumer Products Other Than Automobiles,” a program covering most major household appliances. (42 U.S.C. 6291-6309)

Over time, amendments to EPCA have given DOE expanded authority to regulate the energy efficiency of certain commercial and industrial equipment, including the electric motors that are the focus of this notice. Amendments to EPCA in the Energy Policy Act of 1992 (EPACT 1992) (Pub. L. 102-486) prescribed energy conservation standards for certain electric motors. (42 U.S.C. 6313(b)(1))

In addition, section 313 of the Energy Independence and Security Act of 2007 (EISA 2007) (Pub. L. 110-140) amends EPCA by updating the standards established by EPACT 1992. The amendments redefine the term “electric motor” and add energy conservation standards for the following categories of electric motors: U-Frame, Design C, close-coupled pump, footless, vertical solid shaft normal thrust, 8-pole (900 rpm), and polyphase motors with a voltage of not more than 600 volts (other than 230 or 460 volts). (42 U.S.C. 6311(13))

EPCA also directs DOE to publish a final rule determining whether to amend existing electric motors standards within 24 months of the effective date of the previous final electric motors rule. (42 U.S.C. 6313(b)(4)(B)) The most recent electric motors standards set out in EISA 2007 and codified in the Code of Federal Regulations (CFR) on March 23, 2009, go into effect on December 19, 2010, under section 313(b)(2) of EISA 2007. Therefore, DOE must publish a final rule determining whether to amend the electric motors standards by December 19, 2012. (42 U.S.C. 6313(b)(4)(B)) Any amended standards established pursuant to this rulemaking would apply to products manufactured five years or more after the effective date of the previous electric motors standard. (42 U.S.C. 6313(b)(4)(B)(i)) Any amended standards that result from this rulemaking process, therefore, would have a compliance date of December 19, 2015. (42 U.S.C. 6313(b)(4)(B)) DOE is, therefore, beginning a rulemaking process to consider further amending these standards with a framework document for electric motors describing the procedural and analytical approaches DOE anticipates using in its evaluation.

The focus of the public meeting noted above will be to discuss the analyses presented and issues identified in the framework document. At the public meeting, DOE will make a number of presentations, invite discussion on the rulemaking process as it applies to electric motors, and solicit comments, data, and information from participants and other interested parties. DOE encourages those who wish to participate in the public meeting to obtain the framework document and to be prepared to discuss its contents. A copy of the draft framework document is available at: http://www1.eere.energy.gov/buildings/appliance_standards/commercial/electric_motors.html.

Public meeting participants need not limit their comments to the issues identified in the framework document. DOE is also interested in comments on other relevant issues that participants believe would affect energy conservation standards for this equipment, applicable test procedures, or the preliminary determination on the scope of coverage. DOE invites all interested parties, whether or not they participate in the public meeting, to submit comments and information on matters addressed in the framework document and on other matters relevant to DOE's consideration of amended standards for electric motors in writing by October 28, 2010.

The public meeting will be conducted in an informal, facilitated, conference style. There shall be no discussion of proprietary information, costs or prices, market shares, or other commercial matters regulated by U.S. antitrust laws. A court reporter will record the proceedings of the public meeting, after which a transcript will be available on the DOE Web site at: http://www1.eere.energy.gov/buildings/appliance_standards/commercial/electric_motors.html and for purchase from the court reporter.

After the public meeting and the close of the comment period on the framework document, DOE will begin conducting the analyses discussed in the framework document and reviewing the public comments received.

DOE considers public participation to be a very important part of the process for setting energy conservation standards. DOE actively encourages the participation and interaction of the public during the comment period in each stage of the rulemaking process. Beginning with the framework document, and during each subsequent public meeting and comment period, interactions with and between members of the public provide a balanced discussion of the issues to assist DOE in the standards rulemaking process. Accordingly, anyone who wishes to participate in the public meeting, receive meeting materials, or be added to the DOE mailing list to receive future notices and information about this rulemaking should contact Ms. Brenda Edwards at (202) 586-2945, or via e-mail at Brenda.Edwards@ee.doe.gov.

Issued in Washington, DC, on September 16, 2010.
Cathy Zoi,
Assistant Secretary, Energy Efficiency and Renewable Energy.

[FR Doc. 2010-24288 Filed 9-27-10; 8:45 am]

BILLING CODE 6450-01-P